DEPARTMENT OF COMMERCE

United States Patent and Trademark Office

[Docket No. PTO-P-2009-0037]

Additional Period for Comments on Interim Examination Instructions for Evaluating Patent Subject Matter Eligibility

AGENCY: United States Patent and Trademark Office, Commerce.

ACTION: Request for comments; additional comment period.

SUMMARY: The United States Patent and Trademark Office (USPTO) has prepared interim examination instructions for evaluating patent subject matter eligibility under 35 U.S.C. 101 (Interim Patent Subject Matter Eligibility Examination Instructions) pending a decision by the U.S. Supreme Court in Bilski v. Kappos, and invited the public to submit written comments on the Interim Patent Subject Matter Eligibility Examination Instructions. The USPTO is extending the comment period to ensure that members of the public have sufficient opportunity to submit comments on the Interim Patent Subject Matter Eligibility Examination Instructions. The USPTO will revise the instructions as appropriate based on comments received.

Comment Deadline Date: Written comments must be received on or before November 9, 2009. No public hearing will be held.

ADDRESSES: Comments should be sent by electronic mail message over the Internet addressed to AB98.Comments@uspto.gov. Comments may also be submitted by facsimile to (571) 273-0125, marked to the attention of Caroline D. Dennison. Although comments may be submitted by mail or facsimile, the USPTO prefers to receive comments via the Internet.

The comments will be available for public inspection at the Office of the Commissioner for Patents, located in Madison East, Tenth Floor, 600 Dulany Street, Alexandria, Virginia, and will be available via the Office Internet Web site (address: http://www.uspto.gov). Because comments will be made available for public inspection, information that is not desired to be made public, such as an address or phone number, should not be included in the comments.

FOR FURTHER INFORMATION CONTACT: Caroline D. Dennison, Office of the Deputy Commissioner for Patent Examination Policy, by telephone at 571-272-7729, or by facsimile transmission to 571-273-0125, marked to the attention of Caroline D. Dennison.

SUPPLEMENTARY INFORMATION: The USPTO posted the Interim Patent Subject Matter Eligibility Examination Instructions on its Internet Web site (address: http://www.uspto.gov) on August 27, 2009. The notice published on the USPTO's Internet Web site invited public comment on the Interim Patent Subject Matter Eligibility Examination Instructions and indicated that comments must be received on or before September 28, 2009, to be ensured of consideration. The USPTO subsequently published a notice in the Federal Register confirming that the USPTO was inviting public comment on the Interim Patent Subject Matter Eligibility Examination Instructions and that comments must be received on or before September 28, 2009, to be ensured of consideration. See Request for Comments on Interim Examination Instructions for Evaluating Patent Subject Matter Eligibility, 74 FR 47780 (September 17, 2009) (notice). The USPTO is extending the comment period because the USPTO desires the benefit of public comment on the instructions and wants to ensure that members of the public have sufficient opportunity to submit comments on the Interim Patent Subject Matter Eligibility Examination Instructions. Comments that have already been received are under consideration and the USPTO will revise the instructions as appropriate based on comments received.

Dated: October 5, 2009.
David J. Kappos,
Under Secretary of Commerce for Intellectual Property and Director of the United States Patent and Trademark Office.

[FR Doc. E9-24395 Filed 10-8-09; 8:45 am]

BILLING CODE 3510-16-P